DEPARTMENT OF ENERGY

Federal Energy Regulatory Commission

[Docket No. RM01-5-000]

Electronic Tariff Filings; Notice of Rescheduled Technical Conference

February 19, 2010.

As a result of inclement weather closing the Federal Government in Washington, DC, a technical conference scheduled for February 9, 2010 could not occur. Take notice that that this event has been rescheduled for February 26, 2010. The conference will last from 10 a.m.-1:30 p.m. EST that day.

Please refer to the notice of technical conferences issued on December 16, 2009 in this proceeding for details related to the originating Commission action for this conference, as well as the topics that will be covered.

The conference will be held at the Commission's offices, 888 First Street, NE., Washington, DC. All interested persons are invited to attend. The documents that will be discussed are located at http://www.ferc.gov/docs-filing/etariff.asp.

Teleconferencing will be available. The number and instructions for teleconferencing in these meetings is posted on http://www.ferc.gov/docs-filing/etariff.asp and an RSS alert related to this rescheduled event will be issued.

The meeting is open to the public. No preregistration is required. FERC meetings are accessible under section 508 of the Rehabilitation Act of 1973. For accessibility accommodations please send an e-mail to accessibility@ferc.gov or call toll free (866) 208-3372 (voice) or (202) 502-8659 (TTY), or send a fax to (202) 208-2106 with the required accommodations.

For more information about these conferences, please contact Keith Pierce, Office of Energy Market Regulation at (202) 502-8525 or send an e-mail to ETariff@ferc.gov.

Kimberly D. Bose,
Secretary.

[FR Doc. 2010-4095 Filed 2-26-10; 8:45 am]

BILLING CODE 6717-01-P